DEPARTMENT OF ENERGY

Federal Energy Regulatory Commission

[Project No. 1494-232]

Grand River Dam Authority; Notice of Availability of Environmental Assessment

October 30, 2003.

In accordance with the National Environmental Policy Act of 1969 and the Federal Energy Regulatory Commission's (Commission) regulations, 18 CFR part 380 (Order No. 486, 52 FR 47897), the Office of Energy Projects' staff has prepared an Environmental Assessment (EA) for Grand River Dam Authority's application for non-project use of project lands and waters for approval to permit Joe Harwood d/b/a Arrowhead Investment & Development Company to expand and modernize an existing marina from 9 existing docks with 111 boat slips and a service station to 11 docks with 175 boats slips and a new service station. The project is located on the Duck Creek arm of Grand Lake O' the Cherokees, on the Grand/Neshoo River in northeastern Oklahoma.

The EA contains the staff's analysis of the potential environmental impacts of the proposal and concludes that approval of the proposal would not constitute a major federal action significantly affecting the quality of the human environment.

A copy of the EA is attached to a Commission Order titled “Order Approving Non-Project Use of Project Property” issued October 23, 2003 (105 FERC ¶ 61, 100) which is available for review at the Commission in the Public Reference Room, or it may be viewed on the Commission's Web site at http://www.ferc.gov using the “eLibrary” link. Enter the docket number (prefaced by P-) and excluding the last three digits, in the docket number field to access the document. For assistance, please contact FERC Online Support at FERCOnlineSupport@ferc.gov or toll-free (866) 208-3676, or for TTY, contact (202) 502-8659.

For further information, contact Heather Campbell at (202) 502-6182.

Magalie R. Salas,
Secretary.

[FR Doc. E3-00172 Filed 11-04-03; 8:45 am]

BILLING CODE 6717-01-P